ENVIRONMENTAL PROTECTION AGENCY

40 CFR Parts 60 and 61

[AZ and NV-EPA-R09-OAR-2006-1014; FRL-8551-1]

Delegation of New Source Performance Standards and National Emission Standards for Hazardous Air Pollutants for the States of Arizona and Nevada

AGENCY: Environmental Protection Agency (EPA).

ACTION: Final rule.

SUMMARY: EPA is updating the Code of Federal Regulations (CFR) delegation tables to reflect the current delegation status of the New Source Performance Standards (NSPS) and National Emission Standards for Hazardous Air Pollutants (NESHAPs) in Arizona and Nevada. These updates were proposed in the Federal Register on June 21, 2007.

DATES: Effective Date: This rule is effective on May 5, 2008.

ADDRESSES: EPA established docket number EPA-R09-OAR-2006-1014 for this action. The index to the docket is available electronically at http://www.regulations.gov and in hard copy at EPA, Region IX, 75 Hawthorne Street, San Francisco, California. While all documents in the docket are listed in the index, some information may be publicly available only at the hard copy location (e.g., copyrighted material), and some may not be publicly available in either location (e.g., confidential business information). To inspect the hard copy materials, please schedule an appointment during normal business hours with the contact listed in the FOR FURTHER INFORMATION CONTACT section.

FOR FURTHER INFORMATION CONTACT: Cynthia G. Allen, EPA Region IX, (415) 947-4120, allen.cynthia@epa.gov.

SUPPLEMENTARY INFORMATION: Throughout this document, “we,” “us” and “our” refer to EPA.

Table of Contents

I. Background

II. Public Comment and EPA Response

III. EPA Action

IV. Statutory and Executive Order Reviews

I. Background

On June 21, 2007, EPA proposed to update the delegation tables in the Code of Federal Regulations, Title 40 (40 CFR) Parts 60 and 61, to allow easier access by the public to the status of delegations in Arizona and Nevada jurisdictions (see 72 FR 34209). The updated delegation tables include the delegations approved in response to recent requests, as well as those previously granted. The tables are shown at the end of this document.

II. Public Comment and EPA Response

EPA's proposed action provided a 30-day public comment period. During this period, we received one comment from the State of Nevada's Division of Environmental Protection (NDEP). NDEP noted that it requested delegation of Appendix B, Performance Specifications, of 40 CFR Part 60 (Appendix B), and that EPA approved this request by letter dated January 12, 2007. However, EPA's proposed rulemaking did not include Appendix B in the “Delegation Status for NSPS for Nevada” table. NDEP requested that EPA add Appendix B to Nevada's NSPS delegation status table.

Appendix B was included in our approval letter of January 12, 2007 in error. Appendices to 40 CFR Parts 60 and 61 are not performance standards and are not delegable under Clean Air Act Sections 111(c)(1) or 112(l)(1). However, all applicable test methods and other requirements in the Appendices must be followed as required by the delegated subparts (see EPA's proposed rule published on January 14, 2002 (67 FR 1676) and subsequent final rule published on April 26, 2002 (67 FR 20652)).

III. EPA Action

No comments were submitted that change our assessment of the delegations as described in our proposed action. Therefore, as authorized in Sections 111(c)(1) and 112(l)(1) of the Clean Air Act, EPA is updating the CFR tables for Arizona and Nevada as proposed in the Federal Register on June 21, 2007.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely updates the list of approved delegations in the Code of Federal Regulations and imposes no additional requirements. Accordingly, the Administrator certifies that this rule will not have a significant economic impact on a substantial number of small entities under the Regulatory Flexibility Act (5 U.S.C. 601 et seq.). Because this rule does not impose any additional enforceable duty beyond that required by state or local law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely updates the list of already-approved delegations, and does not alter the relationship or the distribution of power and responsibilities established in the Clean Air Act. This rule also is not subject to Executive Order 13045 “Protection of Children from Environmental Health Risks and Safety Risks” (62 FR 19885, April 23, 1997), because it approves a state or local rule implementing a federal standard.

In reviewing state or local delegation submissions, our role is to approve state or local choices, provided that they meet the criteria of the Clean Air Act. In this context, in the absence of a prior existing requirement for the State or local government to use voluntary consensus standards (VCS), EPA has no authority to disapprove state or local submissions for failure to use VCS. It would thus be inconsistent with applicable law for EPA, when it reviews a state or local submission, to use VCS in place of a state or local submission that otherwise satisfies the provisions of the Clean Air Act. Thus, the requirements of Section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under Section 307(b)(1) of the Clean Air Act, petitions for judicial review of this action must be filed in the United States Court of Appeals for the appropriate circuit by June 2, 2008. Filing a petition for reconsideration by the Administrator of this final rule does not affect the finality of this rule for the purposes of judicial review nor does it extend the time within which a petition for judicial review may be filed, and shall not postpone the effectiveness of such rule or action. This action may not be challenged later in proceedings to enforce its requirements (see Section 307(b)(2)) of the Clean Air Act.

List of Subjects in 40 CFR Parts 60 and 61

Environmental protection, Administrative practice and procedure, Air pollution control, Hazardous substances, Intergovernmental relations, Reporting and recordkeeping requirements.

Authority: This action is issued under the authority of Sections 111 and 112 of the Clean Air Act, as amended (42 U.S.C. 7411 and 7412).

Dated: March 19, 2008.
Andrew Steckel,
Acting Director, Air Division, Region IX.

For the reasons set out in the preamble, Title 40, Chapter I, Parts 60 and 61 of the Code of Federal Regulations is amended as follows:

PART 60—[AMENDED]

1. The authority citation for Part 60 continues to read as follows:

Authority: 42 U.S.C. 7401 et seq.

Subpart A—General Provisions

2. Section 60.4 is amended by revising paragraphs (d)(1) and (d)(4) to read as follows:

§ 60.4 Address.

* * * * *

(d) * * *

(1) Arizona. The following table identifies delegations as of May 18, 2006:

Delegation Status for New Source Performance Standards for Arizona
| Subpart | Air pollution control agency: Arizona DEQ | Air pollution control agency: Maricopa County | Air pollution control agency: Pima County | Air pollution control agency: Pinal County
A | General Provisions | X | X | X | X
D | Fossil-Fuel Fired Steam Generators Constructed After August 17, 1971 | X | X | X | X
Da | Electric Utility Steam Generating Units Constructed After September 18, 1978 | X | X | X | X
Db | Industrial-Commercial-Institutional Steam Generating Units | X | X | X | X
Dc | Small Industrial Steam Generating Units | X | X | X | X
E | Incinerators | X | X | X | X
Ea | Municipal Waste Combustors Constructed After December 20, 1989 and On or Before September 20, 1994 | X | X | X | X
Eb | Municipal Waste Combustors Constructed After September 20, 1994 | X | X | X |
Ec | Hospital/Medical/Infectious Waste Incinerators for Which Construction is Commenced After June 20, 1996 |  | X | X |
F | Portland Cement Plants | X | X | X | X
G | Nitric Acid Plants | X | X | X | X
H | Sulfuric Acid Plant | X | X | X | X
I | Hot Mix Asphalt Facilities | X | X | X | X
J | Petroleum Refineries | X | X | X | X
K | Storage Vessels for Petroleum Liquids for Which Construction, Reconstruction, or Modification Commenced After June 11, 1973, and Prior to May 19, 1978 | X | X | X | X
Ka | Storage Vessels for Petroleum Liquids for Which Construction, Reconstruction, or Modification Commenced After May 18, 1978, and Prior to July 23, 1984 | X | X | X | X
Kb | Volatile Organic Liquid Storage Vessels (Including Petroleum Liquid Storage Vessels) for Which Construction, Reconstruction, or Modification Commenced After July 23, 1984 | X | X | X | X
L | Secondary Lead Smelters | X | X | X | X
M | Secondary Brass and Bronze Production Plants | X | X | X | X
N | Primary Emissions from Basic Oxygen Process Furnaces for Which Construction is Commenced After June 11, 1973 | X | X | X | X
Na | Secondary Emissions from Basic Oxygen Process Steelmaking Facilities for Which Construction is Commenced After January 20, 1983 | X | X | X | X
O | Sewage Treatment Plants | X | X | X | X
P | Primary Copper Smelters | X | X | X | X
Q | Primary Zinc Smelters | X | X | X | X
R | Primary Lead Smelters | X | X | X | X
S | Primary Aluminum Reduction Plants | X | X | X | X
T | Phosphate Fertilizer Industry: Wet Process Phosphoric Acid Plants | X | X | X | X
U | Phosphate Fertilizer Industry: Superphosphoric Acid Plants | X | X | X | X
V | Phosphate Fertilizer Industry: Diammonium Phosphate Plants | X | X | X | X
W | Phosphate Fertilizer Industry: Triple Superphosphate Plants | X | X | X | X
X | Phosphate Fertilizer Industry: Granular Triple Superphosphate Storage Facilities | X | X | X | X
Y | Coal Preparation Plants | X | X | X | X
Z | Ferroalloy Production Facilities | X | X | X | X
AA | Steel Plants: Electric Arc Furnaces Constructed After October 21, 1974 and On or Before August 17, 1983 | X | X | X | X
AAa | Steel Plants: Electric Arc Furnaces and Argon-Oxygen Decarburization Vessels Constructed After August 7, 1983 | X | X | X | X
BB | Kraft Pulp Mills | X | X | X | X
CC | Glass Manufacturing Plants | X | X | X | X
DD | Grain Elevators | X | X | X | X
EE | Surface Coating of Metal Furniture | X | X | X | X
FF | (Reserved) |  |  |  |
GG | Stationary Gas Turbines | X | X | X | X
HH | Lime Manufacturing Plants | X | X | X | X
KK | Lead-Acid Battery Manufacturing Plants | X | X | X | X
LL | Metallic Mineral Processing Plants | X | X | X | X
MM | Automobile and Light Duty Trucks Surface Coating Operations | X | X | X | X
NN | Phosphate Rock Plants | X | X | X | X
PP | Ammonium Sulfate Manufacture | X | X | X | X
QQ | Graphic Arts Industry: Publication Rotogravure Printing | X | X | X | X
RR | Pressure Sensitive Tape and Label Surface Coating Operations | X | X | X | X
SS | Industrial Surface Coating: Large Appliances | X | X | X | X
TT | Metal Coil Surface Coating | X | X | X | X
UU | Asphalt Processing and Asphalt Roofing Manufacture | X | X | X | X
VV | Equipment Leaks of VOC in the Synthetic Organic Chemicals Manufacturing Industry | X | X | X | X
WW | Beverage Can Surface Coating Industry | X | X | X | X
XX | Bulk Gasoline Terminals | X | X | X | X
AAA | New Residential Wool Heaters | X | X | X | X
BBB | Rubber Tire Manufacturing Industry | X | X | X | X
CCC | (Reserved) |  |  |  |
DDD | Volatile Organic Compounds (VOC) Emissions from the Polymer Manufacturing Industry | X | X | X | X
EEE | (Reserved) |  |  |  |
FFF | Flexible Vinyl and Urethane Coating and Printing | X | X | X | X
GGG | Equipment Leaks of VOC in Petroleum Refineries | X | X | X | X
HHH | Synthetic Fiber Production Facilities | X | X | X | X
III | Volatile Organic Compound (VOC) Emissions From the Synthetic Organic Chemical Manufacturing Industry (SOCMI) Air Oxidation Unit Processes | X | X | X | X
JJJ | Petroleum Dry Cleaners | X | X | X | X
KKK | Equipment Leaks of VOC From Onshore Natural Gas Processing Plants | X | X | X | X
LLL | Onshore Natural Gas Processing: SO2 Emissions | X | X | X | X
MMM | (Reserved) |  |  |  |
NNN | Volatile Organic Compound (VOC) Emissions From Synthetic Organic Chemical Manufacturing Industry (SOCMI) Distillation Operations | X | X | X | X
OOO | Nonmetallic Mineral Processing Plants | X | X | X | X
PPP | Wool Fiberglass Insulation Manufacturing Plants | X | X | X | X
QQQ | VOC Emissions From Petroleum Refinery Wastewater Systems | X | X | X | X
RRR | Volatile Organic Compound Emissions from Synthetic Organic Chemical Manufacturing Industry (SOCMI) Reactor Processes |  | X | X |
SSS | Magnetic Tape Coating Facilities | X | X | X | X
TTT | Industrial Surface Coating: Surface Coating of Plastic Parts for Business Machines | X | X | X | X
UUU | Calciners and Dryers in Mineral Industries | X | X | X |
VVV | Polymeric Coating of Supporting Substrates Facilities | X | X | X | X
WWW | Municipal Solid Waste Landfills | X | X | X |
AAAA | Small Municipal Waste Combustion Units for Which Construction is Commenced After August 30, 1999 or for Which Modification or Reconstruction is Commended After June 6, 2001 | X | X |  |
CCCC | Commercial and Industrial Solid Waste Incineration Units for Which Construction Is Commenced After November 30, 1999 or for Which Modification or Reconstruction Is Commenced on or After June 1, 2001 | X | X |  |
EEEE | Other Solid Waste Incineration Units for Which Construction is Commenced After December 9, 2004, or for Which Modification or Reconstruction is Commenced on or After June 16, 2006 |  |  |  |
KKKK | Stationary Combustion Turbines |  |  |  |
GGGG | (Reserved) |  |  |  |

* * * * *

(4) Nevada. The following table identifies delegations as of January 12, 2007:

Delegation Status for New Source Performance Standards for Nevada
| Subpart | Air pollution control agency: Nevada DEP | Air pollution control agency: Clark County | Air pollution control agency: Washoe County
A | General Provisions | X | X | X
D | Fossil-Fuel Fired Steam Generators Constructed After August 17, 1971 | X | X | X
Da | Electric Utility Steam Generating Units Constructed After September 18, 1978 | X |  |
Db | Industrial-Commercial-Institutional Steam Generating Units | X |  |
Dc | Small Industrial Steam Generating Units | X |  |
E | Incinerators | X | X | X
Ea | Municipal Waste Combustors Constructed After December 20, 1989 and On or Before September 20, 1994 | X |  |
Eb | Municipal Waste Combustors Constructed After September 20, 1994 | X |  |
Ec | Hospital/Medical/Infectious Waste Incinerators for Which Construction is Commenced After June 20, 1996 | X |  |
F | Portland Cement Plants | X | X | X
G | Nitric Acid Plants | X |  | X
H | Sulfuric Acid Plants | X |  | X
I | Hot Mix Asphalt Facilities | X | X | X
J | Petroleum Refineries | X |  | X
K | Storage Vessels for Petroleum Liquids for Which Construction, Reconstruction, or Modification Commenced After June 11, 1973, and Prior to May 19, 1978 | X | X | X
Ka | Storage Vessels for Petroleum Liquids for Which Construction, Reconstruction, or Modification Commenced After May 18, 1978, and Prior to July 23, 1984 | X | X | X
Kb | Volatile Organic Liquid Storage Vessels (Including Petroleum Liquid Storage Vessels) for Which Construction, Reconstruction, or Modification Commenced After July 23, 1984 | X |  |
L | Secondary Lead Smelters | X | X | X
M | Secondary Brass and Bronze Production Plants | X |  | X
N | Primary Emissions from Basic Oxygen Process Furnaces for Which Construction is Commenced After June 11, 1973 | X |  | X
Na | Secondary Emissions from Basic Oxygen Process Steelmaking Facilities for Which Construction is Commenced After January 20, 1983 | X |  |
O | Sewage Treatment Plants | X | X | X
P | Primary Copper Smelters | X | X | X
Q | Primary Zinc Smelters | X | X | X
R | Primary Lead Smelters | X | X | X
S | Primary Aluminum Reduction Plants | X |  | X
T | Phosphate Fertilizer Industry: Wet Process Phosphoric Acid Plants | X |  | X
U | Phosphate Fertilizer Industry: Superphosphoric Acid Plants | X |  | X
V | Phosphate Fertilizer Industry: Diammonium Phosphate Plants | X |  | X
W | Phosphate Fertilizer Industry: Triple Superphosphate Plants | X |  | X
X | Phosphate Fertilizer Industry: Granular Triple Superphosphate Storage Facilities | X |  | X
Y | Coal Preparation Plants | X | X | X
Z | Ferroalloy Production Facilities | X |  | X
AA | Steel Plants: Electric Arc Furnaces Constructed After October 21, 1974 and On or Before August 17, 1983 | X |  | X
AAa | Steel Plants: Electric Arc Furnaces and Argon-Oxygen Decarburization Vessels Constructed After August 7, 1983 | X |  |
BB | Kraft pulp Mills | X |  | X
CC | Glass Manufacturing Plants | X |  | X
DD | Grain Elevators | X | X | X
EE | Surface Coating of Metal Furniture | X | X | X
FF | (Reserved) |  |  |
GG | Stationary Gas Turbines | X | X | X
HH | Lime Manufacturing Plants | X | X | X
KK | Lead-Acid Battery Manufacturing Plants | X | X | X
LL | Metallic Mineral Processing Plants | X | X | X
MM | Automobile and Light Duty Trucks Surface Coating Operations | X | X | X
NN | Phosphate Rock Plants | X | X | X
PP | Ammonium Sulfate Manufacture | X |  | X
QQ | Graphic Arts Industry: Publication Rotogravure Printing | X | X | X
RR | Pressure Sensitive Tape and Label Surface Coating Operations | X |  | X
SS | Industrial Surface Coating: Large Appliances | X | X | X
TT | Metal Coil Surface Coating | X | X | X
UU | Asphalt Processing and Asphalt Roofing Manufacture | X | X | X
VV | Equipment Leaks of VOC in the Synthetic Organic Chemicals Manufacturing Industry | X | X | X
WW | Beverage Can Surface Coating Industry | X |  | X
XX | Bulk Gasoline Terminals | X |  | X
AAA | New Residential Wool Heaters |  |  |
BBB | Rubber Tire Manufacturing Industry | X |  |
CCC | (Reserved) |  |  |
DDD | Volatile Organic Compounds (VOC) Emissions from the Polymer Manufacturing Industry | X |  |
EEE | (Reserved) |  |  |
FFF | Flexible Vinyl and Urethane Coating and Printing | X |  | X
GGG | Equipment Leaks of VOC in Petroleum Refineries | X |  | X
HHH | Synthetic Fiber Production Facilities | X |  | X
III | Volatile Organic Compound (VOC) Emissions From the Synthetic Organic Chemical Manufacturing Industry (SOCMI) Air Oxidation Unit Processes | X |  |
JJJ | Petroleum Dry Cleaners | X | X | X
KKK | Equipment Leaks of VOC From Onshore Natural Gas Processing Plants | X |  |
LLL | Onshore Natural Gas Processing: SO2 Emissions | X |  |
MMM | (Reserved) |  |  |
NNN | Volatile Organic Compound (VOC) Emissions From Synthetic Organic Chemical Manufacturing Industry (SOCMI) Distillation Operations | X |  |
OOO | Nonmetallic Mineral Processing Plants | X |  | X
PPP | Wool Fiberglass Insulation Manufacturing Plants | X |  | X
QQQ | VOC Emissions From Petroleum Refinery Wastewater Systems | X |  |
RRR | Volatile Organic Compound Emissions from Synthetic Organic Chemical Manufacturing Industry (SOCMI) Reactor Processes |  |  |
SSS | Magnetic Tape Coating Facilities | X |  |
TTT | Industrial Surface Coating: Surface Coating of Plastic Parts for Business Machines | X |  |
UUU | Calciners and Dryers in Mineral Industries | X |  |
VVV | Polymeric Coating of Supporting Substrates Facilities | X |  |
WWW | Municipal Solid Waste Landfills | X |  |
AAAA | Small Municipal Waste Combustion Units for Which Construction is Commenced After August 30, 1999 or for Which Modification or Reconstruction is Commended After June 6, 2001 | X |  |
CCCC | Commercial and Industrial Solid Waste Incineration Units for Which Construction Is Commenced After November 30, 1999 or for Which Modification or Reconstruction Is Commenced on or After June 1, 2001 | X |  |
EEEE | Other Solid Waste Incineration Units for Which Construction is Commenced After December 9, 2004, or for Which Modification or Reconstruction is Commenced on or After June 16, 2006 | X |  |
KKKK | Stationary Combustion Turbines | X |  |
GGGG | (Reserved) |  |  |

* * * * *

PART 61—[AMENDED]

3. The authority citation for part 61 continues to read as follows:

Authority: 42 U.S.C. 7401 et seq.

Subpart A—General Provisions

4. Section 61.04 is amended by revising paragraphs (c)(9)(i) and (c)(9)(iv) to read as follows:

§ 61.04 Address.

* * * * *

(c) * * *

(9) * * *

(i) Arizona. The following table identifies delegations as of June 14, 2006:

Delegation Status for National Emissions Standards for Hazardous Air Pollutants for Arizona
| Subpart | Air pollution control agency: Arizona DEQ | Air pollution control agency: Maricopa County | Air pollution control agency: Pima County | Air pollution control agency: Pinal County
A | General Provisions | X | X | X | X
B | Radon Emissions From Underground Uranium |  |  |  |
C | Beryllium | X | X | X | X
D | Beryllium Rocket Motor Firing | X | X | X | X
E | Mercury | X | X | X | X
F | Vinyl Chloride | X | X | X | X
G | (Reserved) |  |  |  |
H | Emissions of Radionuclides Other Than Radon From Department of Energy Facilities |  |  |  |
I | Radionuclide Emissions From Federal Facilities Other Than Nuclear Regulatory Commission Licensees and Not Covered by Subpart H |  |  |  |
J | Equipment Leaks (Fugitive Emission Sources) of Benzene |  | X | X | X
K | Radionuclide Emissions From Elemental Phosphorus Plants |  |  |  |
L | Benzene Emissions from Coke By-Product Recovery Plants | X | X | X | X
M | Asbestos | X | X | X | X
N | Inorganic Arsenic Emissions From Glass Manufacturing Plants | X |  |  |
O | Inorganic Arsenic Emissions From Primary Copper Smelters | X |  |  |
P | Inorganic Arsenic Emissions From Arsenic Trioxide and Metallic Arsenic Production Facilities | X | X |  |
Q | Radon Emissions From Department of Energy Facilities |  |  |  |
R | Radon Emissions From Phosphogypsum Stacks |  |  |  |
S | (Reserved) |  |  |  |
T | Radon Emissions From the Disposal of Uranium Mill Tailings |  |  |  |
U | (Reserved) |  |  |  |
V | Equipment Leaks (Fugitive Emission Sources) | X | X | X | X
W | Radon Emissions From Operating Mill Tailings |  |  |  |
X | (Reserved) |  |  |  |
Y | Benzene Emissions From Benzene Storage Vessels | X | X | X | X
Z-AA | (Reserved) |  |  |  |
BB | Benzene Emissions From Benzene Transfer Operations | X | X | X | X
CC-EE | (Reserved) |  |  |  |
FF | Benzene Waste Operations | X | X | X | X

* * * * *

(iv) Nevada. The following table identifies delegations as of September 21, 2005:

Delegation Status for National Emissions Standards for Hazardous Air Pollutants for Nevada
| Subpart | Air pollution control agency: Nevada DEP | Air pollution control agency: Clark County | Air pollution control agency: Washoe County
A | General Provisions | X | X |
B | Radon Emissions From Underground Uranium |  |  |
C | Beryllium | X | X | X
D | Beryllium Rocket Motor Firing | X | X |
E | Mercury | X | X |
F | Vinyl Chloride | X | X |
G | (Reserved) |  |  |
H | Emissions of Radionuclides Other Than Radon From Department of Energy Facilities | X |  |
I | Radionuclide Emissions From Federal Facilities Other Than Nuclear Regulatory Commission Licensees and Not Covered by Subpart H | X |  |
J | Equipment Leaks (Fugitive Emission Sources) of Benzene | X |  |
K | Radionuclide Emissions From Elemental Phosphorus Plants | X |  |
L | Benzene Emissions from Coke By-Product Recovery Plants | X |  |
M | Asbestos |  | X | X
N | Inorganic Arsenic Emissions From Glass Manufacturing Plants | X |  |
O | Inorganic Arsenic Emissions From Primary Copper Smelters | X |  |
P | Inorganic Arsenic Emissions From Arsenic Trioxide and Metallic Arsenic Production Facilities | X |  |
Q | Radon Emissions From Department of Energy Facilities |  |  |
R | Radon Emissions From Phosphogypsum Stacks |  |  |
S | (Reserved) |  |  |
T | Radon Emissions From the Disposal of Uranium Mill Tailings |  |  |
U | (Reserved) |  |  |
V | Equipment Leaks (Fugitive Emission Sources) | X |  |
W | Radon Emissions From Operating Mill Tailings |  |  |
X | (Reserved) |  |  |
Y | Benzene Emissions from Benzene Storage Vessels | X |  |
Z-AA | (Reserved) |  |  |
BB | Benzene Emissions From Benzene Transfer Operations | X |  |
CC-EE | (Reserved) |  |  |
FF | Benzene Waste Operations | X |  |

* * * * *

[FR Doc. E8-6915 Filed 4-2-08; 8:45 am]

BILLING CODE 6560-50-P